DEPARTMENT OF ENERGY

Federal Energy Regulatory Commission

Combined Notice of Filings #2

Take notice that the Commission received the following electric rate filings:

Docket Numbers: ER10-2794-008; ER10-2849-007; ER11-2028-008; ER12-1825-006; ER11-3642-007.

Applicants: EDF Trading North America, LLC, EDF Industrial Power Services (NY), LLC, EDF Industrial Power Services (IL), LLC, EDF Industrial Power Services (CA), LLC, Tanner Street Generation, LLC.

Description: Notice of Non-Material Change in Status of EDF Trading North America, LLC, et al.

Filed Date: 10/30/12.

Accession Number: 20121030-5140.

Comments Due: 5 p.m. ET 11/20/12.

Take notice that the Commission received the following land acquisition reports:

Docket Numbers: LA12-3-000.

Applicants: Carolina Power & Light Company, Cimarron Windpower II, LLC, CinCap V, LLC Duke Energy Business Services, LLC Duke Energy Commercial Asset Management, Inc., Duke Energy Commercial Enterprises, Inc. Duke Energy Carolinas, LLC, Duke Energy Fayette II, LLC, Duke Energy Hanging Rock II, LLC Duke Energy Indiana, Inc. Duke Energy Kentucky, Inc., Duke Energy Lee II, LLC Duke Energy Ohio, Inc. Duke Energy Retail Sales, LLC, Duke Energy Washington II, LLC, Florida Power Corporation, Cimarron Windpower II, LLC, Happy Jack Windpower, LLC Ironwood Windpower, LLC, Kit Carson Windpower, LLC, Laurel Hill Wind Energy, LLC, North Allegheny Wind, LLC Silver Sage Windpower, LLC St. Paul Cogeneration, LLC, Three Buttes Windpower, LLC, Top of the World Energy, LLC.

Description: Quarterly Land Acquisition Report of Duke Energy Corporation.

Filed Date: 10/30/12.

Accession Number: 20121030-5149.

Comments Due: 5 p.m. ET 11/20/12.

Docket Numbers: LA12-3-000.

Applicants: Alabama Electric Marketing, LLC, Big Sandy Peaker Plant, LLC, California Electric Marketing, LLC, Crete Energy Venture, LLC, CSOLAR IV South, LLC, High Desert Power Project, LLC, Kiowa Power Partners, LLC, Lincoln Generating Facility, LLC, New Covert Generating Company, LLC, New Mexico Electric Marketing, LLC, Rolling Hills Generating, L.L.C., Tenaska Alabama Partners, L.P., Tenaska Alabama II Partners, L.P., Tenaska Frontier Partners, Ltd., Tenaska Gateway Partners, Ltd., Tenaska Georgia Partners, L.P., Tenaska Power Management, LLC, Tenaska Power Services Co., Tenaska Virginia Partners, L.P., Tenaska Washington Partners, L.P., Texas Electric Marketing, LLC, TPF Generation Holdings, LLC, and Wolf Hills Energy, LLC.

Description: Quarterly Land Acquisition Report of Alabama Electric Marketing, LLC et al.

Filed Date: 10/31/12.

Accession Number: 20121031-5154.

Comments Due: 5 p.m. ET 11/21/12.

Docket Numbers: LA12-3-000.

Applicants: Astoria Generating Company, L.P.

Description: Quarterly Land Acquisition Report of Astoria Generating Company, L.P.

Filed Date: 10/31/12.

Accession Number: 20121031-5155.

Comments Due: 5 p.m. ET 11/21/12.

Docket Numbers: LA12-3-000.

Applicants: Spring Canyon Energy LLC, Judith Gap Energy LLC, Invenergy TN LLC, Wolverine Creek Energy LLC, Grays Harbor Energy LLC, Forward Energy LLC, Willow Creek Energy LLC, Sheldon Energy LLC, Hardee Power Partners Limited, Spindle Hill Energy LLC, Invenergy Cannon Falls LLC, Beech Ridge Energy LLC, Grand Ridge Energy LLC, Grand Ridge Energy II LLC, Grand Ridge Energy III LLC, Grand Ridge Energy IV LLC, Grand Ridge Energy V LLC, Vantage Wind Energy LLC, Stony Creek Energy LLC, Gratiot County Wind LLC, Gratiot County Wind II LLC, Bishop Hill Energy LLC, Bishop Hill Energy III LLC and California Ridge Wind Energy LLC.

Description: Quarterly Land Acquisition Report of Spring Canyon Energy LLC, et al.

Filed Date: 10/31/12.

Accession Number: 20121031-5238.

Comments Due: 5 p.m. ET 11/21/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 31, 2012.
Nathaniel J. Davis, Sr.,
Deputy Secretary.

[FR Doc. 2012-27155 Filed 11-6-12; 8:45 am]

BILLING CODE 6717-01-P